NUCLEAR REGULATORY COMMISSION

[Docket No. 50-247]

Entergy Nuclear Operations, Inc.; Indian Point Nuclear Generating Unit No. 2; Environmental Assessment and Finding of No Significant Impact

The U.S. Nuclear Regulatory Commission (NRC) is considering issuance of an amendment to Facility Operating License No. DPR-26, issued to Entergy Nuclear Operations, Inc. (ENO or the licensee) for operation of Indian Point Nuclear Generating Unit No. 2 (IP2), located in Westchester County, New York. Therefore, as required by 10 CFR 51.21, the NRC is issuing this environmental assessment and finding of no significant impact.

Environmental Assessment

Identification of the Proposed Action

The proposed action would revise the existing, or current, Technical Specifications (TS) for IP2 in their entirety based on the guidance provided in NUREG-1431, “Standard Technical Specifications for Westinghouse Plants,” Revision 2, dated April 2001, and in the Commission's “Final Policy Statement on Technical Specifications Improvements for Nuclear Power Reactors,” published on July 22, 1993 (58 FR 39132). The proposed amendment is in accordance with the licensee's application dated March 27, 2002, as supplemented by letters dated May 30, 2002; July 10, 2002; October 10, 2002; October 28, 2002; November 26, 2002; December 18, 2002; January 6, 2003; January 27, 2003; February 26, 2003; April 8, 2003; May 19, 2003; June 23, 2003; June 26, 2003; July 15, 2003; August 6, 2003; September 11, 2003; October 8, 2003; and October 14, 2003.

The Need for the Proposed Action

It has been recognized that nuclear safety in all nuclear power plants would benefit from the improvement and standardization of plant TSs. The “NRC Interim Policy Statement on Technical Specification Improvements for Nuclear Power Plants” (52 FR 3788), contained proposed criteria for defining the scope of TSs. Later, the Commission's “Final Policy Statement on Technical Specifications Improvements for Nuclear Power Reactors,” published on July 22, 1993 (59 FR 39132), incorporated lessons learned since publication of the interim policy statement and formed the basis for revisions to 10 CFR 50.36, “Technical Specifications.” The “Final Rule” (60 FR 36953) codified criteria for determining the content of TSs. To facilitate the development of standard TS for nuclear power reactors, each power reactor vendor owners' group (OG) and the NRC staff developed standard TS. For IP2, the Improved Standard Technical Specifications (ISTS) are in NUREG-1431, Revision 2. The NRC Committee to Review Generic Requirements (CRGR) reviewed the ISTS, made note of their safety merits, and indicated its support of the conversion by operating plants to the ISTS.

The proposed changes to the current TS (CTS) are based on NUREG-1431, Revision 2, and on guidance provided by the Commission in the Final Policy Statement. The objective of the changes is to completely rewrite, reformat, and streamline the TSs (i.e., to convert the CTS to Improved Technical Specifications (ITS)). Emphasis is placed on human factors principles to improve clarity and understanding of the TSs. The Bases section of the ITS has been significantly expanded to clarify and better explain the purpose and foundation of each specification. In addition to NUREG-1431, Revision 2, portions of the CTS were also used as the basis for the development of the IP2 ITS. Plant-specific issues (e.g., unique design features, requirements, and operating practices) were discussed with the licensee, and generic matters were discussed with Westinghouse and other OGs.

The proposed changes to the CTS can be grouped into four categories. These groupings are characterized as administrative changes, relocation changes, more restrictive changes and less restrictive changes.

1. Administrative changes are those that involve restructuring, renumbering, rewording, interpretation, and complex rearranging of requirements and other changes not affecting technical content or substantially revising an operating requirement. The reformatting, renumbering, and rewording process reflects the attributes of NUREG-1431, Rev. 2, and does not involve technical changes to the ITS. The proposed changes include: (a) Providing the appropriate numbers, etc., for NUREG-1431 bracketed information (information that must be supplied on a plant-specific basis, and which may change from plant to plant), (b) identifying plant-specific wording for system names, etc., and (c) changing NUREG-1431 section wording to conform to existing licensee practices. Such changes are administrative in nature and do not impact initiators of analyzed events or assumed mitigation of accident or transient events.

2. Relocation changes are those involving relocation of requirements and surveillances for structures, systems, components, or variables that do not meet the criteria for inclusion in TSs. Relocated changes are those CTS requirements that do not satisfy or fall within any of the four criteria specified in 10 CFR 50.36(c)(2)(ii) and may be relocated to appropriate licensee-controlled documents.

The licensee's application of the screening criteria is described in the attachment of the licensee's March 27, 2002, submittal, which is entitled, “Application of NRC Selection Criteria Including the CTS to ITS Disposition and Relocation Matrix” (Split Report) in Volume 1 of the submittal. The affected structures, systems, components or variables are not assumed to be initiators of analyzed events and are not assumed to mitigate accident or transient events. The requirements and surveillances for these affected structures, systems, components, or variables will be relocated from the TSs to administratively-controlled documents such as the quality assurance program, the Final Safety Analysis Report (FSAR), the ITS Bases, the Technical Requirements Manual (TRM) that is incorporated by reference in the FSAR, the Core Operating Limits Report (COLR), the Offsite Dose Calculation Manual (ODCM), the Inservice Testing (IST) Program, or other licensee-controlled documents. Changes made to these documents will be made pursuant to 10 CFR 50.59 or other NRC-approved control mechanisms, which provide appropriate procedural means to control changes by the licensee.

3. More restrictive changes are those involving more stringent requirements compared to the CTS for operation of the facility. These more stringent requirements do not result in operation that will alter assumptions relative to the mitigation of an accident or transient event. The more restrictive requirements will not alter the operation of process variables, structures, systems, and components described in the safety analyses. For each requirement in the ISTS that is more restrictive than the CTS that the licensee proposes to adopt in the ITS, the licensee has provided an explanation as to why it has concluded that adopting the more restrictive requirement is desirable to ensure safe operation of the facility because of specific design features of the plant.

4. Less restrictive changes are those where CTS requirements are relaxed or eliminated, or new plant operational flexibility is provided. The more significant “less restrictive” requirements are justified on a case-by-case basis. When requirements have been shown to provide little or no safety benefit, their removal from the TSs may be appropriate. In most cases, relaxations previously granted to individual plants on a plant-specific basis were the result of: (a) Generic NRC actions, (b) new NRC staff positions that have evolved from technological advancements and operating experience, or (c) resolution of the Owners Groups' comments on the ISTS. Generic relaxations contained in NUREG-1431, Revision 2 were reviewed by the staff and found to be acceptable because they are consistent with current licensing practices and NRC regulations. The licensee's design is being reviewed to determine if the specific design basis and licensing basis are consistent with the technical basis for the model requirements in NUREG-1431, Revision 2, thus providing a basis for the ITS, or if relaxation of the requirements in the ITS is warranted based on the justification provided by the licensee.

These administrative, relocated, more restrictive, and less restrictive changes to the requirements of the ITS do not result in operations that will alter assumptions relative to mitigation of an analyzed accident or transient event.

In addition to the proposed changes solely involving the conversion, there are also changes proposed that are different from the requirements in both the CTS and the STS NUREG-1431. These beyond scope issues to the conversion, listed in the order of the applicable ITS specification or section, as appropriate (from ITS 3.6.9 to ITS 3.8.7), are as follows:

1. The licensee added ITS Limiting Condition for Operation (LCO) 3.6.9—Isolation Valve Seal Water System to the proposed IP2 ITS. NUREG-1431 does not include an STS for this system, because very few plants have this kind of system. The CTS provides a base set of requirements, which the staff will use to evaluate the licensee's proposed change for parameters such as allowable out-of-service time and surveillance requirements (SRs).

2. The licensee added ITS LCO 3.6.10—Weld Channel and Penetration Pressurization System (WC&PPS) to the proposed IP2 ITS. The WC&PPS is designed to continuously pressurize the space between selected containment isolation valves, containment piping penetration barriers, and most of the weld seam channels installed on the inside of the containment liner. Pressurization by the WC&PPS provides a means of monitoring the containment leakage of the affected barriers. WC&PPS pressure is maintained above Pa [atmospheric pressure], so the system may also reduce out leakage from the containment during an accident, although it is not credited for doing so. There are no regulatory requirements or guidance for this system. NUREG-1431 does not include an STS for this system, because very few plants have this kind of system.

3. The licensee added ITS 3.7.2—Main Steam Isolation Valves (MSIVs) and Main Steam Check Valves (MSCVs) to the proposed IP2 ITS. CTS 3.4B allows all 4 MSIVs to be inoperable for up to 72 hours prior to requiring initiation of plant shutdown. The proposed ITS LCO 3.7.2, required action C.1, allows only one MSIV to be inoperable for up to 72 hours prior to requiring initiation of a plant shutdown. If more than one MSIV is inoperable in Mode 1 (and not closed), ITS LCO 3.0.3 is immediately applicable and a plant shutdown must be initiated within one hour. Proposed ITS 3.7.2 deviates from STS 3.7.2 which allows all four MSIVs to be inoperable for up to 72 hours prior to requiring initiation of plant shutdown.

4. The licensee proposed ITS LCO 3.7.3 for Main Feedwater Isolation to add requirements for operability, allowable out of service times and SRs which are deviations from the Scope of STS conversion.

5. The licensee proposed ITS LCO 3.7.8 of 72 hours allowed out of service time which is less restrictive (i.e., longer) than the STS allowed out of service time of 12 hours, without adopting NUREG-1431, STS LCO 3.7.8 Notes 1 and 2, for the service water pumps.

6. The licensee proposed ITS LCO 3.8.1 to replace the current CTS 3.7 and to require that onsite and offsite electrical power systems are operable in Modes 1, 2, 3, and 4. Current requirements of CTS 3.7 specify that requirements for onsite and offsite electrical power systems are applicable only when the reactor is critical and, therefore, requires only that the reactor be made subcritical when requirements are not met. CTS 4.6 does not establish any requirements for the periodic verification of correct breaker alignment and indicated power availability for offsite circuits.

7. The licensee proposed the following SRs for ITS LCO 3.8.3—Diesel Fuel Oil and Starting Air:

(a) ITS SR 3.8.3.1, requirement for verification regarding the emergency diesel generator fuel oil inventory in the fuel oil storage tanks, is relaxed.

(b) Proposed ITS does not adopt STS SR 3.8.3.2 requirement for verification regarding the lube oil inventory; and

(c) The licensee added new sections to specify a range of pressure limits and impose LCOs and SRs for the starting air receivers. CTS does not currently have these requirements.

8. The licensee proposed ITS LCO 3.8.4, “DC Sources—Operating” and associated ITS SR 3.8.4 which are less restrictive than CTS 3.7.B.5 and CTS 3.7.B.6, CTS 3.7.B.5, and CTS 3.7.B.6 allow one of the four batteries to be inoperable for 24 hours if the associated charger is operable or allow one of the four chargers to be inoperable for 24 hours if the associated battery is operable.

9. The licensee originally proposed ITS LCO 3.8.6, which did not include a requirement to verify battery float current every seven days in accordance with STS 3.8.6, but required seven days with associated conditions. The original proposed ITS 3.8.6 was a deviation from STS 3.8.6, which specified the seven-day interval requirement. However, the licensee later modified its proposed ITS 3.8.6 to include the seven-day SR.

10. The licensee originally proposed ITS LCO 3.8.7, “Inverter—Operating,” which limits the time the inverter may be inoperable to seven days in its March 27, 2002, submittal in lieu of 24 hours as recommended by NUREG-1431. The staff was concerned that the seven-day LCO was too long and also was not consistent with NUREG-1431. Subsequently, the licensee modified its proposed ITS LCO 3.8.7 to reduce the LCO from seven days to 24 hours.

11. The licensee proposed ITS 5.5.11, “Diesel Fuel Oil Testing Program,” which is a deviation from STS 5.5.13. The current CTS and UFSAR do not have any requirements for testing diesel fuel oil. Proposed ITS 5.5.11 adds a new program, “Diesel Fuel Oil Testing,” to require that a diesel fuel oil testing program is maintained with specific TS requirements for acceptance criteria and testing frequency. IP2 design and licensing basis requires that each diesel generator (DG) has an onsite underground storage tank containing oil for 48 hours of minimum safeguards load and a DG fuel oil reserve with sufficient fuel to support an additional 5 days of operation. ITS 5.5.11 will establish separate fuel oil testing programs for onsite underground storage tanks and the DG fuel oil reserve tanks. The proposed ITS adds to the Administrative Control Section of the TS a new diesel fuel oil testing program. It also incorporates several editorial changes in order to make the ITS consistent with the STS. With a few exceptions, this program follows the requirements specified in the STS.

Environmental Impacts of the Proposed Action

The NRC has completed its evaluation of the proposed conversion of the CTS to the ITS for IP2, including the beyond scope issues discussed above. Changes which are administrative in nature have been found to have no effect on the technical content of the TSs. The increased clarity and understanding that these changes bring to the TSs are expected to improve the operators' control of IP2 in normal and accident conditions.

Relocation of the requirements from the ITS to other licensee-controlled documents does not change the requirements themselves. Future changes to these requirements may be made by the licensee under 10 CFR 50.59 and other NRC-approved control mechanisms, which will ensure continued maintenance of adequate requirements. All such relocations have been found consistent with the guidelines of NUREG-1431, Revision 2, and the Commissions's Final Policy Statement.

Changes involving more restrictive requirements have been found to enhance plant safety.

Changes involving less restrictive requirements have been reviewed individually. When requirements have been shown to provide little or no safety benefit, or to place an unnecessary burden on the licensee, their removal from the TSs was justified. In most cases, the relaxations previously granted to individual plants on a plant-specific basis were the result of generic action, or of agreements reached during discussions with the owners' groups, and found to be acceptable for the plant. Generic relaxations contained in NUREG-1431, Revision 2, have been reviewed by the NRC staff and found to be acceptable.

In summary, the proposed revisions to the TSs were found to provide control of plant operations such that reasonable assurance will be provided that the health and safety of the public will be adequately protected.

The proposed action will not significantly increase the probability or consequences of accidents, no changes are being made in the types of any effluents that may be released off site, and there is no significant increase in occupational or public radiation exposure. Therefore, there are no significant radiological environmental impacts associated with the proposed action.

With regard to potential non-radiological impacts, the proposed action involves features located entirely within the restricted area for the plant defined in 10 CFR part 20 and does not have the potential to affect any historic sites. It does not affect non-radiological plant effluents and has no other environmental impact. It does not increase any discharge limit for the plant. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in the current environmental impacts. The environmental impacts of the proposed action and alternative action are similar.

Alternative Use of Resources

This action does not involve the use of any different resources than those previously considered in the Final Environmental Statement for IP2, dated September 1972.

Agencies and Persons Consulted

On September 25, 2002, the staff consulted with the New York State official, Ms. Alyse Peterson, of the New York Energy and Research Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 27, 2002, as supplemented by letters dated May 30, 2002; July 10, 2002; October 10, 2002; October 28, 2002; November 26, 2002; December 18, 2002; January 6, 2003; January 27, 2003; February 26, 2003; April 8, 2003; May 19, 2003; June 23, 2003; June 26, 2003; July 15, 2003; August 6, 2003; September 11, 2003; October 8, 2003; and October 14, 2003. Documents may be examined, and/or copied for a fee, at the NRC's Public Document Room (PDR), located at One White Flint North Public File Area 01F21, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

Dated at Rockville, Maryland this 5th day of November, 2003.
For the Nuclear Regulatory Commission.
Richard Laufer,
Chief, Section 1, Project Directorate 1, Division of Licensing Project Management, Office of Nuclear Reactor Regulation.

[FR Doc. 03-28498 Filed 11-13-03; 8:45 am]

BILLING CODE 7590-01-P